FEDERAL COMMUNICATIONS COMMISSION

47 CFR Parts 1, 13, 17, 20, 22, 24, 26, 27, 30, 54, 74, 80, 87, 88, 90, 95, 96, 97, and 101

[GN Docket No. 25-133; FCC 25-77; FR ID 318984]

Delete, Delete, Delete; Removal of Obsolete Regulations

AGENCY: Federal Communications Commission.

ACTION: Direct final rule; request for comments.

SUMMARY: In this document, Commission acts to eliminate certain outdated, obsolete, and unnecessary rules.

DATES: Effective February 10, 2026, unless significant adverse comments are received by January 2, 2026. In the event the Commission receives significant adverse comments, the Commission will publish a timely withdrawal in the Federal Register informing the public the provisions of the rule(s) for which significant adverse comments were received and elimination will not take effect.

ADDRESSES: You may submit comments, identified by GN Docket No. 25-133, electronically or on paper. See SUPPLEMENTARY INFORMATION for specific information and addresses for electronic or paper filings.

FOR FURTHER INFORMATION CONTACT: Amy Brett, Federal Communications Commission, Wireless Telecommunications Bureau, Amy.Brett@fcc.gov, (202) 418-2703.

SUPPLEMENTARY INFORMATION: This is a summary of the Commission's Direct Final Rule, GN Docket No. 25-133, FCC 25-77, adopted on October 28, 2025 and released on October 29, 2025. The full text of this document is available for public inspection and can be downloaded at https://www.fcc.gov/document/deleting-obsolete-and-duplicative-wireless-rules-0. Alternative formats are available for people with disabilities (Braille, large print, electronic files, audio format) by sending an email to fcc504@fcc.gov or calling the Commission's Consumer and Governmental Affairs Bureau at (202) 418-0530 (voice), (202) 418-0432 (TTY).

Comment Period and Filing Procedures. Interested parties may file comments on or before the dates provided in the DATES section of this document. Comments must be filed in GN Docket No. 25-133. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Paperwork Reduction Act of 1995 Analysis: This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act: The Commission has determined, and the Administrator of the Office of Information and Regulatory Affairs, Office of Management and Budget concurs, that this rule is “non-major” under the Congressional Review Act, 5 U.S.C. 804(2). The Commission will send a copy of this Direct Final Rule to Congress and the Government Accountability Office pursuant to 5 U.S.C. 801(a)(1)(A).

Synopsis

1. This Direct Final Rule continues our efforts to modernize our regulatory framework by rescinding certain wireless rules and requirements in parts 1, 13, 17, 20, 22, 24, 26, 27, 30, 54, 74, 80, 87, 88, 90, 95, 96, 97, and 101. In this proceeding, we have undertaken a sweeping review eventually aimed at eliminating outdated rules, reducing unnecessary regulatory burdens, accelerating infrastructure deployment, promoting network modernization, and spurring innovation. Our objective is to streamline, simplify, and smartly deregulate across multiple fronts simultaneously to better serve the public and support technological progress.

2. In initiating this proceeding, we generally sought to identify rules that are outdated, obsolete, unlawful, anticompetitive, or otherwise no longer in the public interest. In this item, we specifically focus on the repeal of certain wireless rules in various parts for which prior notice and comment are unnecessary, but for which we elect to provide an opportunity for input on that assessment. Absent any significant adverse comments in response to this Direct Final Rule, these rules will be repealed.

3. Good Cause to Forgo Notice and Comment. Under the Administrative Procedure Act (APA), when an agency for good cause finds that notice and public comment “are impracticable, unnecessary, or contrary to the public interest,” it need not follow notice and comment procedures before modifying or repealing rules. Prior notice and comment are “unnecessary” when “ ‘the administrative rule is a routine determination, insignificant in nature and impact, and inconsequential to the industry and to the public.’ ”

4. We have identified approximately 396 rule provisions and rule parts, totaling 58,218 words and covering approximately 137 pages in the Code of Federal Regulations, that plainly no longer serve the public interest because they have sunset by operation of law; ¹ govern an expired event; ² regulate an obsolete technology; ³ regulate virtually a null set of FCC licensees; ⁴ regulate an outdated market structure; ⁵ are no longer used in practice by the FCC or licensees; ⁶ or are otherwise duplicative,

¹ § 20.6 (providing rule that ceased to be effective January 1, 2003); § 20.12(b) (providing rule that sunset on November 24, 2002); §§ 27.1021-27.1041 (governing H Block auction and reimbursement processes, which are complete and therefore rules have sunset by operation of law ten years after the issuance of the first license in the Lower H Block and Upper H Block in 2014. See 47 CFR 27.1041(a)); §§ 27.1160-27.1190 (governing cost sharing and reimbursement process for BRS relocation which is now complete therefore these rules have sunset by operation of law); § 54.317 (c) (governing Alaska Plan support for competitive eligible telecommunications carriers during the period from January 1, 2012, until December 31, 2016), (g) (governing a phasedown period Alaska Plan support for certain competitive eligible communications carriers; phasedown period has elapsed); § 54.321(a) (providing for the filing of certifications Alaska Plan participants no later than 60 days after the end of each participating carrier's first five-year term of support, which all ended in 2022); § 95.1933(b) (providing reporting requirements that sunset on January 1, 2023).

² § 1.9030(d)(4)(iv) (governing unjust enrichment obligations related to leases from a licensee that participates in the installment payment program, which the Commission paused in 1997); § 1.9045 (governing requirements for spectrum leasing arrangements entered into by licensees participating in the installment payment program, which the Commission paused); §§ 13.7(b)(1)-(3), 13.8(a), (c), 13.11(a)(1)-(3) (referring to First, Second, and Third Class Radiotelegraph Operator Certifications, which no longer exist because any such certificates were renewed as Radiotelegraph Operator Licenses or as Marine Radio Operator Permits. See 47 CFR 13.13(a)); § 13.17 (stating the requirements for commercial radio operators to acquire a replacement paper license, which are no longer applicable because licenses are now available on the Commission's website); § 24.321(c) (providing that certain Narrowband PCS winners of licenses in auctions prior to 2000 will be eligible to pay in installments); § 24.711 (providing the option for Broadband PCS C Block license winners to pay for auctioned licenses through the installment payment program, which the Commission paused in 1997, and the Commission has not auctioned new Broadband PCS C Block licenses since Auction 71 in 2007); § 24.712(c) (providing that certain part 1 unjust enrichment provisions shall not apply to Broadband PCS C Block licenses acquired in auctions in 1995 and 1996; such provisions already do not apply to these licenses because the unjust enrichment period has passed); § 24.714(c) (governing rules for Broadband PCS auction winners to pay for licenses through the installment payment program, which the Commission paused in 1997); § 24.716 (providing the option for Broadband PCS F Block license winners to pay for auctioned licenses through the installment payment program, which the Commission paused in 1997, and the Commission has not auctioned new Broadband PCS F Block licenses since Auction 71 in 2007); § 27.5(i)(5) (governing the involuntary relocation of grandfathered EBS point-to-point stations, which no longer exist); § 27.14(l) (requiring certain Wireless Communications Service licensees to file reports on the status of their efforts to meet their performance requirements and indicating that the final report was due in 2016); § 27.58 (governing the obligation of WCS licensees to remedy interference to BRS/EBS block downconverters for complaints received prior to February 20, 2002, none of which continue to be pending); § 27.604 (prohibiting the same entity from winning both the A and B Block licenses in the 700 MHz Guard Band in the first auction of those licenses, which was held in 2000; therefore, the rule has no practical effect); §§ 27.1111, 27.1131, 27.1132 (governing the relocation of fixed microwave service licensees in the 2110-2150 MHz, the 2150-2160/62 MHz, and the 2160-2200 MHz bands, which has concluded); § 27.1200 (stating that, as of January 10, 2005, licensees assigned to the Multipoint Distribution Service and the Multichannel Multipoint Distribution Service would be reassigned to the Broadband Radio Service and that licensees in the Instructional Television Fixed Service would be reassigned to the Educational Broadband Service); § 27.1213 (establishing designated entity provisions for bidding on BRS licenses in Commission auctions commencing prior to January 1, 2004); § 27.1216(b) (stating that the deadline for determining different GSAs for grandfathered E and F Group EBS licenses was October 17, 2006); §§ 27.1250-27.1255 (governing the transition of Broadband Radio Service (BRS) in the Advanced Wireless Service (AWS) band, which has concluded); §§ 27.1604-27.1605 (establishing that 3.45 GHz Licensees must pay a pro rata portion to reimburse the costs incurred by authorized non-federal, secondary radiolocation licensees for relocating from the 3.3-3.55 GHz band; the reimbursement process was completed in 2025. See Wireless Telecommunications Bureau Grants the 3.45 GHz Clearinghouse's Request to Wind Down and Suspend Operations, WT Docket 19-348, Public Notice, DA 25-230 (WTB, rel. March 14, 2025)); § 30.4(d)(2) (authorizing 39 GHz licensees to operate on a particular channel plan “[p]ending transition to the new channel plan,” which subsequently was completed); § 30.102 (stating that, on December 14, 2016, Local Multipoint Distribution Service licenses in the 27.5-28.35 GHz band issued on a Basic Trading Area basis shall be disaggregated into county-based licenses and 39 GHz licenses issued on an Economic Area basis shall be disaggregated into Partial Economic Area-based license); § 74.551 (governing Aural Broadcast Auxiliary Services for which there is no longer an allocation in the relevant band); § 74.602(h)(3), (h)(4) (second sentence), (h)(5), (h)(6) (governing TV channels which are no longer available under subpart F after DTV transition, which concluded on June 13, 2009, and the incentive-auction transition, which concluded on July 13, 2020); § 74.603(c) (addressing the continued operation of Aural STL or intercity relay stations licensed as of July 10, 1970 until such time as a future rulemaking proceeding addressed their disposition. Such a rulemaking proceeding occurred in 1984 and implemented § 74.502(a), which allows aural BAS in the 944-952 MHz band and grandfathers such stations licensed in 942-944 MHz); § 74.651 (governing Television Broadcast Auxiliary Services for which there is no longer an allocation in the relevant band); § 74.802(e) (requiring Low Power Auxiliary Station (LPAS) licensees to transition out of the 700 MHz band by June 12, 2010); §§ 74.802(f), 74.870(i) (governing use of frequencies for LPAS and Wireless Video Assist Devices until 39 months after 2017 channel reassignment public notice, which has long since passed); § 74.851(l) (governing equipment which, since 2018, can no longer be marketed); § 80.151(b)(9)-(11) (governing rules concerning classification of maritime operator licenses that beginning May 20, 2013 the FCC no longer accepted for filing); § 80.205(b)(2) (governing stations authorized prior to 1961, none of which exist today); § 80.209(a) n.1 (governing transmitters authorized prior to 1990 and 1992); § 80.383(a) n.1, n.2 (governing Vessel Traffic Services (VTS) system frequencies providing guidance for a class of licenses that no longer exist in this frequency); § 87.87(b)(1), (2), (3) (providing classification of operator licenses and endorsements authority which expired in 2018); § 90.235(e) (establishing a transition period, which expired on December 31, 1999, for signaling systems to comply with the 2 second message duration and 3 message repetition requirements); § 90.423(c) (authorizing mobile operations aboard aircraft in part 90 services, under licenses in effect September 14, 1973, without complying with the technical and operational requirements in paragraph (a) of this section, only for the balance of the current license term if the aircraft are regularly flown at altitudes greater than 1.6 km (1 mi) above the earth's surface and for one additional license term if the aircraft are regularly flown at altitudes below 1.6 km (1 mi) above the earth's surface); §§ 90.615(d), 90.617(l) (prohibiting applicants from licensing interstitial channels until after the release of a public notice announcing the availability of those channels for licensing in a National Public Safety Planning Advisory Committee Region, which occurred on June 6, 2022); § 90.617(m) (stating that incumbent licensees in the 470-512 MHz band in the urban areas specified in § 90.303 will have priority access over mutually exclusive applicants to all interstitial channel pairs in the public safety pool or the business/industrial/land transportation pool for a three-year period, which ended on July 7, 2025); § 90.743 (providing renewal requirements that were only in effect until January 1, 2023); Appendix A to Part 95 (providing cross references to previous rules that date back to 2017 and serve no current purpose); §§ 101.69-101.82 (governing a transition of fixed microwave services in the 2 GHz range, which has resulted in incumbent fixed microwave operations being transitioned to other bands).

³ § 17.9 (regulating antenna farms, which are de facto permissible and of which none have been designated by rulemaking to date); §§ 22.165(f), 22.859 (regulating incumbent commercial aviation air-ground systems licenses, of which there are none); §§ 80.76(c), 80.80(a)(3), (b)-(f) (regulating older equipment and providing no practical application in today's advanced marine radio marketplace); § 80.203(b)(5), (o) (discussing outdated technical requirements, license classes that no longer exist, and grandfathered equipment installation until 2003); §§ 90.203(a)(2), 90.213(a) n.10 (governing Dedicated Short-Range Communications (DSRC) licensing, although there was no new licensing permitted as of December 2024, no new DSRC licenses can be issued after February 11, 2025, and the service sunsets December 14, 2026); § 90.203(o) (containing requirements for equipment in the NN Service (3650-3700 MHz), which sunset as of January 8, 2023); § 90.237(a) (providing dated and unnecessary requirement in a coordinated service); § 90.363 (providing grandfathering provisions for a service where there are no licensees); §§ 90.461(b), (c), 90.471, 90.473, 90.475 (outlining obsolete and outdated requirements regarding internal transmitter control systems); § 95.977 (regulating CB radio tone transmissions for old technology from decades ago and is no longer needed in the CB Radio marketplace); § 97.315(b)(2) (discussing certification of external RF power amplifiers for equipment that is almost 50 years old, making the provision no longer necessary); § 101.64 (governing service areas for 38.6-40 GHz service, which is now Upper Microwave Flexible Use Service (UMFUS)); §§ 101.501-101.538 (governing (1) services in the 24 GHz band that no longer exist and were replaced by UMFUS, and (2) Digital Electronic Message Service, which no longer exist).

⁴ § 22.959 (governing processing of applications for initial cellular systems that occurred decades ago); § 27.5(i)(1) (governing the prior BRS/EBS band plan under which no licensees may operate); § 27.5(i)(4) (governing temporary fixed broadband service that does not operate in the band); §§ 27.53(m)(5), 27.55(a)(4)(i) (providing emission limits and power strength limits for the prior BRS/EBS band plan under which no licensees may operate); §§ 27.1214, 27.1215 (governing grandfathered EBS and BRS leases which no longer remain in existence); § 87.263(a)(5) (governing a set of licensees which no longer exists); § 90.35(d)(2) (governing channels available to applicants prior to 1961; there are no current part 90 licenses in this portion of the band); § 90.121 (providing rules related to Article 2/3 of the Convention with Canada, even though the FCC no longer uses Form 410, and the Convention does not require that licensees file it with the Commission); § 90.173(k) (providing rules regarding finder's preference provisions, which are no longer applicable after July 29, 1998. Amendment of Part 90 Concerning the Commission's Finder's Preference Rules, WT Docket No 96-199, Report and Order, 13 FCC Rcd 23816 (1998)); § 90.175(j)(7) (providing rules which are no longer necessary because the 800 MHz rebanding is complete. Improving Public Safety Communications in the 800 MHz Band, WT Docket No. 02-55, Order Terminating Proceeding, 36 FCC Rcd 7690 (2021)); § 90.353(e) (providing dated reference to AVM/LMS Sharing in the 902-928 MHz band as no grandfathered AVM licenses remain in the band); §§ 90.1301-90.1338 (providing rules which are no longer necessary following the completion of the transition period for the last grandfathered Wireless Broadband licensees on January 8, 2023, see The Wireless Internet Service Providers Association and the Utilities Technology Council Request for Waiver of Sections 90.1307(c) and (d) and Sections 90.1338(a) and (b) of the Commission's Rules, WT Docket No. 18-353, Order, 35 FCC Rcd 2750, 2752 para. 5 (WTB 2020)).

⁵ § 20.22(c) (providing for six-year limitations on 600 MHz auction licenses issued on December 6, 2018; since the time period has elapsed, the rules are unnecessary); §§ 90.801-90.815 (licenses in this band are not granted pursuant to this subpart, but other rules, such as 900 MHz eligibility or site-based Industrial/Business Use; thus these rules are unnecessary); §§ 90.903-90.913, 90.1017, 90.1019(a)(1)-(3), 90.1021-90.1025 (outlining outdated competitive bidding rules); § 101.45 (providing for mutual exclusivity, which is already avoided by the structure of the part 101 licensing framework); § 101.51 (governing comparative evaluation of mutually exclusive part 101 applications, which is no longer relevant given the deletion of mutual exclusivity rules in section 101.45).

⁶ § 74.19 (providing that the FCC may require a broadcast auxiliary station licensee to keep certain operating and maintenance records, which is no longer applied); § 74.28 (noting that if part 74 rules do not cover “external effects of all phases of part 74 operation,” the FCC can issue an additional order in a specific case; such a rule is not necessary); § 74.432(j) (providing requirements related to licensee retention of hard copy licenses, which is no longer necessary as licenses are stored online); §§ 74.634(b), 74.635(b) (restating that the FCC has authority to issue an order in specific cases); § 80.71 (establishing prescriptive operating controls for coast stations, Alaska-public fixed stations, and Alaska-private fixed stations for outdated types of radios no longer in use); § 80.108 (governing provisions regarding transmission of traffic lists by coast stations that are outdated and have no practical application in today's marketplace); § 80.131(d)(2) (governing hard copy licenses, which the FCC no longer prints); § 80.175 (governing hard copy licenses, which the FCC no longer prints); § 80.407(a) (referencing outdated information regarding how to find forms and filing procedures); § 80.415 (providing outdated information on a list of certain International Telecommunication Union (ITU) Publications and outdated information on how to obtain a copy of the publications. The most up to date publications are available on ITU's website); §§ 80.559(c) n.1, 87.451 n.1 (referencing OET Bulletins referenced which do not exist on their bulletin website and providing an obsolete method for obtaining copies of the bulletins); § 80.953(c) (requiring a vessel owner, operator, or ship's master to maintain physical inspection certificates on board, which is an outdated requirement, as maritime operators now maintain electronic recording practices); § 80.1155(d) (establishing authorization procedure for ship station radioprinter operations that are now governed by other procedures); § 87.25(d), (e) (providing outdated and inaccurate information regarding the licensing processes; ground stations are not licensed as fleet licenses, and the modification/transfer of control procedures referenced in this rule are no longer accurate); § 90.351(a) (providing for collection of information that is unnecessary for FCC licensing purposes); § 90.445 (providing outdated record formatting requirements); § 90.437(a) (providing now-obsolete requirements given storage of original license authorizations in the FCC's Universal Licensing System); § 90.623(b)-(d), 90.627(b), 90.631(g), 90.633(f) (providing obsolete authorization requirements, which are not relevant to how systems are licensed and operate today and are unused in practice); § 97.29 (governing replacement of hard copy licenses, which the FCC no longer prints); § 97.521(b) (providing volunteer-examiner coordinator (VEC) qualifications provision based on serving in specific regions, which are unnecessary because remote exams are now allowed and offered by VEC organizations); Part 97 Appendix 2 (providing VEC region information that is no longer accurate because VECs are no longer coordinated by region); § 101.119 (providing rule regarding simultaneous use of common antenna structures, which is unnecessary and unused in practice); § 101.311 (cross-referencing a rule section that no longer exists); § 101.705 (requiring special showing for renewal of common carrier station facilities using frequency diversity reports that are no longer used and are unnecessary); § 101.1109 (requiring winning bidders of Local Multipoint Distribution System licenses that qualify as designated entities to keep certain physical records, which are not recorded); § 101.1417 (providing for annual report for MVDDS, which has never been used for MVPD and the reports are unnecessary).

outdated, or unnecessary.⁷ Applying the “good cause” standard discussed above, we conclude that prior notice and comment are unnecessary before repealing the rules identified in the Appendix.

⁷ Certain rules list for informational purposes the basis, scope, applicability, or purpose of a rule subpart: § 1.901 (providing basis and purpose); § 1.9001 (stating purpose and scope and otherwise redundant with section 1.9005); § 13.1 (providing basis and purpose); § 17.1 (providing basis and purpose); § 20.1 (providing purpose); § 22.1 (providing basis and purpose); § 22.225 (providing for retention of physical records related to small businesses bidding for cellular licenses; all of the records are available online); § 24.10 (describing scope); § 24.50 (describing scope); § 26.1 (providing basis and purpose); § 27.1 (providing basis and purpose); § 27.210(a) (providing definitions, including “Scope”); § 27.801 (describing scope); § 27.901 (describing scope); § 80.1 (providing basis and purpose); § 80.11 (describing scope); § 80.114(b) (explaining that Commission rules do not apply to federal stations); § 80.201 (describing scope); § 80.251(a), (d) (describing scope); § 80.351 (describing scope); § 80.365 (describing scope); § 80.551 (describing applicability); § 80.751 (describing scope); § 80.1051 (describing scope); § 87.1(a) (providing basis and purpose); § 87.17 (describing scope); § 90.1 (providing basis and purpose); § 90.31 (describing scope); § 90.101 (describing scope); § 90.111 (describing scope); § 90.171 (describing scope); § 90.201 (describing scope); § 90.231 (describing scope); § 90.251 (describing scope); § 90.301 (describing scope); § 90.401 (describing scope); § 90.460 (describing scope); § 90.739 (explaining there is no limit on the number of licenses that may be authorized to a single licensee); § 95.301 (describing scope); § 95.501 (describing scope); § 95.701 (describing scope); § 95.901 (describing scope); § 95.1701 (describing scope); § 95.1901 (describing scope); § 95.2101 (describing scope); § 95.2301 (describing scope); § 95.2501 (describing scope); § 95.2701 (describing scope); § 95.2901 (describing scope); § 95.3301 (describing scope); § 101.1 (describing scope and authority); § 101.1301 (describing scope). Certain rules cross-reference for informational purposes that certain statutory provisions, rules, or regulations apply to a given service: § 1.981 (describing reports, annual and semiannual, “where required by the particular service rules”); § 13.5 (stating that licensed commercial radio operators are required to comply with duties under Parts 80 and 87); § 13.7(a) (stating commercial operator licenses classified in accordance with ITU Radio Regulations); § 20.2 (providing other applicable rule parts); § 22.9 (referring to operation of certificated signal boosters governed by section 20.21); § 22.227 (stating petitions to deny are governed by section 1.939 and limitations on settlements are governed by section 1.935); § 24.2 (providing other applicable rule parts); § 26.4 (providing other applicable rule parts); § 27.3 (providing other applicable rule parts); § 27.308 (providing that applications required by this part must comply with existing application requirements); § 74.452 (providing equipment changes specified in sections 1.929, 1.947, and 74.451(a)); § 80.2 (providing other regulations that apply); § 80.3 (providing other applicable rule parts of this chapter); § 80.31 (stating that part 63 pertains to discontinuance of service); § 80.45 (stating requirements for frequencies already specified in subpart H of part 80); § 80.86 (providing international regulations that are applicable); § 80.121(c) (stating requirements for frequencies already specified in subpart H of part 80); § 80.131(c)(1) (stating requirements for frequencies already specified in subpart H of part 80); § 80.151(a) (stating commercial operator licenses classified in accordance with ITU Radio Regulations); § 80.332(b) (providing for equipment to aid search and rescue operations by cross-referencing to part 80, subparts V and X); § 80.333 (affirming that sections 80.311 and 80.324 apply to maritime mobile satellite service stations); § 80.375(e) (referring to subpart W of part 80 as providing technical standards); § 80.385(b)(4) (referring to requirements set forth in Parts 1.1301 and 1.1319); § 80.411(a) (referring to application requirements specified in sections 80.59); § 80.417 (stating where to obtain FCC Rules and Regulations); § 80.451 (listing supplemental eligibility requirements already specified in section 80.15(b)); § 80.459 (providing frequencies for digital selective calling already specified in subpart H of part 80); § 80.461 (providing frequencies for narrow-band direct-printing already specified in subpart H of part 80); § 80.465 (providing for assignment and use of frequencies for telephony already specified in subpart H of part 80); § 80.509 (providing frequency assignments already specified in subpart H of part 80); § 80.603 (providing for assignment and use of frequencies already specified in subpart H of part 80); § 80.709 (providing frequencies available which are already specified in subpart H of part 80); § 80.1114 (stating requirements applicable to false distress alerts already specified in sections 80.334 and 80.335); § 87.3 (providing other applicable rule parts); § 87.87(a) (stating commercial operator licenses classified in accordance with ITU Radio Regulations); § 88.111 (referencing certification requirements under part 2); § 95.313 (describing penalties for violations of the Communications Act or FCC rules); § 95.331 (referencing permissible uses specified in other rules); § 95.351 (providing information on station identification specified in other rules); § 95.353 (referencing false distress signals prohibited by 47 U.S.C. 325(a)); § 95.363 (providing channels available for use specified in other rules); § 95.1919 (referencing other rule subparts relating to license transferability); § 95.1935 (stating that station identification is not required); § 97.27 (restating requirements of 47 U.S.C. 316 regarding FCC modification of station license grant). Certain rules restate requirements specified in other rule subparts and are otherwise duplicative: § 1.933(c)(8)-(9) (providing for public notices, already covered by 1.933(c)(1)); § 1.9046 (d)(1) and (e) (providing special provisions related to spectrum manager leasing in the Citizens Broadband Radio Service that are duplicative of section 1.9020(h)(1) and (h)(4)); § 1.9050 (noting who may sign spectrum leasing notifications and applications, duplicating section 1.917); § 1.9055 (providing for assignment of file numbers to spectrum leasing notifications and applications and duplicating section 1.926); § 22.107 (providing general application requirements that are duplicative of subpart F of part 1); § 22.213 (providing guidelines for filing of long-form applications that are duplicative of sections 1.2107 and 22.221); § 22.365 (providing requirements for antenna structures and air navigation safety duplicative of part 17); § 22.509 (providing procedures for mutually exclusive applications in the Paging and Radiotelephone Service that are duplicative of section 22.131 and section 22.567); § 22.529 (providing application requirements for the Paging and Radiotelephone Service, which are already covered by 1.913); § 24.235 (providing guidelines regarding frequency stability, which are unnecessary due to section 24.238, specifying emission limit); § 24.430 (providing guidelines on opposition to applications, which are duplicative of section 1.939); § 24.431(b) (providing guidelines regarding mutually exclusive applications, which are duplicative of 24.301); § 24.830 (providing guidelines on opposition to applications, which are duplicative of section 1.939); § 24.831(b) (providing guidelines regarding mutually exclusive applications, which are duplicative of 24.701); § 26.304 (providing requirements for antenna structures and air navigation safety that are duplicative of part 17); § 27.54 (providing guidelines regarding frequency stability, which are unnecessary due to section 27.53, specifying emission limit); § 27.607 (providing annual reporting requirements that are duplicative of construction, operation, and renewal reporting requirements for guard band licensees); § 27.1502 (providing for permanent discontinuance of 900 MHz broadband licenses, which is duplicative of section 1.953); § 74.24(i), (j) (providing guidelines on short-term operation, which are duplicative of section 1.924 as provided in section 74.6); § 74.34(c)-(e) (providing for period of construction and certification of completion of construction, which is duplicative of section 1.946 as provided in section 74.6); § 74.432(k) (providing licensing requirements and procedures, which are duplicative of section 1.953(c) as provided in section 74.6); § 74.433 (providing guidelines on temporary authorizations, which are duplicative of section 1.931(b) as provided in section 74.6); § 74.465 (providing guidelines on frequency monitors and measurements, which are duplicative of section 74.462); § 74.532(f) (providing licensing requirements, which are duplicative of section 1.953); § 74.537 (providing guidelines on temporary authorizations, which are duplicative of section 1.931(b) as provided in section 74.6); § 74.562 (providing guidelines on frequency monitors and measurements, which are duplicative of section 75.535); § 74.602(e) (providing for frequency assignment (LTTS), which is duplicative of section 101.803(b)); § 74.633 (providing guidelines regarding temporary authorizations, which are duplicative of section 1.931(b) as provided in section 74.6); § 74.662 (providing guidelines on frequency monitors and measurements, which are duplicative of section 74.637); § 80.15(b)(2) (providing for eligibility for station license, which is duplicative of section 80.15(a)); § 80.96 (providing guidelines on maintenance tests, which are duplicative of sections 80.89(d) and 80.98)); § 80.110 (providing for inspection and maintenance of antenna structure markings and associated control equipment, which is duplicative of part 17); § 80.149 (providing requirements regarding an answer to notice of violation, which are duplicative of sections 1.89 and 1.951); § 80.159(d) (providing operator requirements of Title III of the Communications Act and the Safety Convention, which are duplicative of section 80.1073); § 80.314(d) (providing guidelines regarding distress communications, which are duplicative of section 80.335); § 80.409(f)(1)(i)(F), (f)(2)(iv) (providing guidelines for station logs, which are duplicative of section 80.59); § 80.455 (providing for assignment and use of frequencies for manual Morse code telegraphy, which is duplicative of section 80.355 and 80.357); § 80.1252 (describing designated entities, which is duplicative of section 1.2110); § 87.29 (providing for partial grant of application, which is duplicative of section 1.110); § 87.35 (providing for cancellation of licenses, which is duplicative of section 1.953(f)); § 90.137(a)(3) (providing guidelines regarding applications for operation at temporary locations, which are duplicative of sections 1.931 and 90.175(a)); § 90.149(b) (providing for license term, which is duplicative of section 90.149(a)); § 90.185(c) (duplicating section 90.477); § 90.205(s) (duplicating band-specific rules specifying ERP and output power); § 90.207(a) (duplicating section 2.201); § 90.275 (providing for selection and assignment of frequencies in the 421-430 MHz band, which is duplicative of section 90.175(b)); § 90.365 (providing for partitioned licenses and disaggregated spectrum, which is duplicative of section 1.948 and section 1.950); § 90.441 (providing for inspection and maintenance of antenna structure marking and associated control equipment, which is duplicative of part 17); § 90.492 (providing for one way paging operations in the 806-824/851-869 MHz and 896-901/935-940 MHz bands, which is duplicative of sections 90.645(e) and (f)); § 90.605 (providing for forms to be used, duplicative of subpart F of part 1 and section 90.127); § 90.607 (providing guidelines on supplemental information to be furnished by applicants for facilities under this subpart, which is duplicative of section 90.175); § 90.621(a)(1)(iii), (b)(1) (providing for selection and assignment of frequencies, which is duplicative of section 90.627); § 90.633(c), (d) (providing conventional systems loading requirements, which are duplicative of section 90.155); § 90.651 (providing guidelines on supplemental reports required of licensees authorized under this subpart, which is duplicative of section 1.946); § 90.735(a) (providing guidelines on station identification, which are duplicative of section 90.425); § 90.1019 (b)-(c) (providing for eligibility for partitioned licenses, which is duplicative of section 1.948 and section 1.950); § 90.1103 (providing guidelines on designated entities, which are duplicative of section 1.2110); § 95.561(a), (b) (providing for transmitter certification, which is duplicative of section 95.361); § 95.939(b) (duplicating the first sentence of the rule); § 95.961 (providing for CB Radio Service transmitter certification, which is duplicative of section 95.361); § 95.1741 (providing GMRS antenna height limits, which are duplicative of section 95.317 and part 17); § 95.1931 (providing service requirements, which are duplicative of section 95.1933); § 95.1951 (providing guidelines on certification, which are duplicative of section 95.361); § 95.2161 (providing for LPRS transmitter certification, which is duplicative of section 95.361); § 95.2361 (providing for WMTS transmitter certification, which is duplicative of section 95.361); § 95.2761(a), (b) (providing for MURS transmitter certification, which is duplicative of section 95.361); § 95.2961 (providing for PLB and MSLD transmitter certification, which is duplicative of section 95.361); § 95.3161 (providing for OBU transmitter certification, which is duplicative of section 95.361); § 95.3202 (providing for OBU transmitter certification, which is duplicative of section 95.361); § 95.3361 (providing guidelines on certification, which are duplicative of section 95.361); § 96.1 (describing scope); § 101.23 (providing for waiver of rules, which is duplicative of section 1.925); § 101.63(e)-(f) (providing guidelines on period of construction and certification of completion of construction, which are duplicative of section 1.946); § 101.211 (providing operator requirements, which are duplicative of section 101.135); § 101.303 (providing guidelines regarding answers to notices of violation, which are duplicative of sections 1.89 and 1.951); § 101.309 (outlining requirement that licensees respond to official communications, which is duplicative of sections 1.934 and 1.951); § 101.819 (providing guidelines for stations affected by coordination contour procedures, which are duplicative of section 101.21); § 101.1111 (providing guidelines on partitioning and disaggregation, which are duplicative of section 1.948 and section 1.950); § 101.1309 (duplicating requirements specified in the application process); § 101.1311 (duplicating requirements set forth in section 101.1329 and subpart F of part 1d); § 101.1321 (providing guidelines on license transfers, which are duplicative of sections 1.2111 and 1.948); § 101.1323 (providing guidelines on spectrum aggregation, disaggregation, and partitioning, which are duplicative of section 1.948 and section 1.950); § 101.1411 (b), (c) (providing for regulatory status and eligibility, which is duplicative of section 101.7); § 101.1413(c) (duplicating of section 1.949). Certain rules state for informational purposes that licensees and manufacturers must comply with the Commission's radio frequency exposure requirements, thereby duplicating substantive obligations already set forth elsewhere in Parts 1 and 2 of the Commission's rules: § 22.379 (affirming obligation to comply with RF exposure requirements); § 24.52 (same); § 27.52 (same); § 30.207 (same); § 80.83 (same); § 88.115 (same); § 101.1425 (same); § 101.1525 (same). Certain rules state for informational purposes that licensees must comply with the Commission's rules or international coordination agreements: § 22.305 (requiring licensees to comply with FCC rules); § 22.357 (stating that emission types must comply with the emission rules in sections 22.359, 22.861, and 22.917); § 30.206 (stating that operations in the 27.5-28.35 GHz, 37-38.6, and 38.6-40 GHz bands are subject to existing and future international agreements with Canada and Mexico); § 30.209 (stating that stations must comply with the other technical and operational requirements specified in this part when employing duplexing as permitted); § 95.761(b) (stating RCRS transmitter certification requires compliance with applicable rules); § 95.2561(b) (stating MedRadio transmitter certification requires compliance with applicable rules); § 95.2587(b) (stating MedRadio must comply with rules); § 101.307 (referencing sections 1.771 through 1.815 as applicable).

5. Accordingly, it is ordered, pursuant to section 4(i) of the Communications Act of 1934, as amended, 47 U.S.C. 154(i), and 0.331 and 1.3 of the Commission's rules, 47 CFR 0.331 and 1.3, that the June 5, 2023 date included within § 20.19(b) is extended to December 5, 2023.

6. Direct Final Rule Process. In this Direct Final Rule, we follow the processes previously outlined by the Commission regarding direct final rules, which we briefly summarize here. At times when the Commission has found prior notice and comment unnecessary before modifying or repealing rules, it simply adopted the relevant rule change without any additional process. Although we reserve the right to proceed in that manner, we elect in this decision to proceed using what is known as a “direct final rule” process. By proceeding through a direct final rule, the Commission chooses to provide expanded opportunities for public comment when it is not legally required to do so under the “good cause” standard. Under a direct final rule process, rule changes are adopted without prior notice and comment, but accompanied by an opportunity for the public to file comments—and if we conclude that significant adverse comments have been filed, the relevant rule changes would not take effect until after a full notice and comment process.

7. In particular, we will publish this item adopting direct final rules in the Federal Register, and allow for comment from interested parties within 20 days of Federal Register publication. Until 20 days after Federal Register publication, this shall be a “permit-but-disclose” proceeding for purposes of our ex parte rules. Because this comment process is directed toward the discrete objective of the direct final rule process, and to avoid unwarranted delay in that process, we prohibit filings addressing the rule changes contemplated in this Direct Final Rule more than 20 days after Federal Register publication, absent further direction from the Commission published in the Federal Register. This both accords with the purpose of the comment process for direct final rules, and is similar (though not identical) to actions the Commission has taken in other contexts to provide a defined end-point for public filings to enable the Commission to focus its attention on the submissions already before it.

8. The direct final rules will be effective 60 days after Federal Register publication. To the extent that the Commission receives comments on these direct final rules, we will evaluate whether they are significant adverse comments that warrant further procedures before changing the rules. In our assessment, we plan to be guided by ACUS's recommendation that “[a]n agency should consider any comment received during direct final rulemaking to be a significant adverse comment if the comment explains why: a. The [direct final] rule would be inappropriate, including challenges to the rule's underlying premise or approach; or b. The [direct final] rule would be ineffective or unacceptable without a change.”

9. In the event that we conclude that significant adverse comments have been filed, the Wireless Telecommunications Bureau (WTB) will publish a timely withdrawal in the Federal Register so that this Direct Final Rule does not become effective until any appropriate additional procedures have been followed. If significant adverse comments are filed only with respect to a subset of the rule revisions addressed by this Direct Final Rule, WTB will withdraw the portions of the Direct Final Rule that were subject to significant adverse comments. For example, if a significant adverse comment is filed regarding a single rule within a direct final rule addressing multiple rules, we will publish a withdrawal addressing only that rule.

10. In the event that no comments are filed in response to this Direct Final Rule, we do not anticipate publishing a confirmation of the effective date in the Federal Register, but simply will allow the rule changes to take effect as originally specified. Where comments are filed, but none of the comments are significant adverse comments, where warranted by the record WTB will issue a Public Notice that will briefly explain why any comments filed were not determined to be significant adverse comments.

Ordering Clauses

11. Accordingly, it is ordered that, pursuant to sections 4(i), 4(j), and 303(r) of the Communications Act of 1934, as amended, 47 U.S.C. 154(i), (j), 303(r), this Direct Final Rule is adopted. Except as specified below, this Direct Final Rule shall be effective upon Federal Register publication of the rule changes set forth in the Appendix, which also shall serve as the date of public notice of that action.

12. It is further ordered that the amendments of the Commission's rules as set forth in the Appendix shall be effective 60 days after Federal Register publication. In the event that significant adverse comments are filed, the Wireless Telecommunications Bureau shall publish a timely document in the Federal Register withdrawing the rule so that the rule change does not become effective until any additional procedures have been followed. In the event that significant adverse comments are filed with respect to only a subset of the rule revisions, we direct the Wireless Telecommunications Bureau to publish a timely document in the Federal Register withdrawing only such rule so that the rule change does not become effective until any additional procedures have been followed.

13. It is further ordered that the Office of the Managing Director, Performance Program Management, shall send a copy of this Direct Final Rule in a report to be sent to Congress and the Government Accountability Office pursuant to the Congressional Review Act, 5 U.S.C. 801(a)(1)(A).

List of Subjects

47 CFR Part 1

Communications; Reporting and recordkeeping requirements; Telecommunications.

47 CFR Part 13

Radio.

47 CFR Part 17

Aviation safety; Communications equipment; Reporting and recordkeeping requirements.

47 CFR Part 20

Communications equipment; Radio; Reporting and recordkeeping requirements; Telecommunications; Telephone.

47 CFR Part 22

Communications; Communications equipment; Radio; Reporting and recordkeeping requirements; Telecommunications.

47 CFR Part 24

Communications equipment; Radio; Reporting and recordkeeping requirements; Telecommunications.

47 CFR Part 26

Telecommunications.

47 CFR Part 27

Communications common carriers; Communications requirements; Radio; Reporting and recordkeeping requirements; Telecommunications.

47 CFR Part 30

Communications common carriers; Communications equipment; Reporting and recordkeeping requirements.

47 CFR Part 54

Reporting and recordkeeping requirements; Telecommunications.

47 CFR Part 74

Communications equipment; Radio, Reporting and recordkeeping requirements; Telecommunications.

47 CFR Part 80

Communications equipment; Marine safety; Radio; Reporting and recordkeeping requirements; Telegraph; Vessels.

47 CFR Part 87

Air transportation; Communications equipment; Radio; Reporting and recordkeeping requirements.

47 CFR Part 88

Communications; Communications equipment; Radio; Reporting and recordkeeping requirements.

47 CFR Part 90

Business and industry; Communications; Communications equipment; Radio; Reporting and recordkeeping requirements; Telecommunications.

47 CFR Part 95

Communications equipment; Radio; Telecommunications.

47 CFR Part 96

Telecommunications.

47 CFR Part 97

Communications equipment; Radio; Reporting and recordkeeping requirements.

47 CFR Part 101

Communications; Communications equipment; Radio; Reporting and recordkeeping requirements.

Federal Communications Commission.
Marlene Dortch,
Secretary.

Final Rules

For the reasons discussed in the preamble, the Federal Communications Commission amends parts 1, 13, 17, 20, 22, 24, 26, 27, 30, 54, 74, 80, 87, 88, 90, 95, 96, 97, and 101 of Title 47 of the Code of Federal Regulations as follows:

PART 1—PRACTICE AND PROCEDURE

1. The authority citation for part 1 continues to read as follows:

Authority: 47 U.S.C. chs. 2, 5, 9, 13; 28 U.S.C. 2461 note; 47 U.S.C. 1754, unless otherwise noted.

§ 1.901 [Removed and Reserved]

2. Remove and reserve § 1.901.

§ 1.933 [Amended]

3. Section 1.933 is amended by removing and reserving paragraphs (c)(8) and (9).

§ 1.981 [Removed and Reserved]

4. Remove and reserve § 1.981.

Subpart X—Spectrum Leasing

§ 1.9001 [Removed and Reserved]

5. Remove and reserve § 1.9001.

§ 1.9030 [Amended]

6. Section 1.9030 is amended by removing and reserving paragraph (d)(4)(iv).

§ 1.9045 [Removed and Reserved]

7. Remove and reserve § 1.9045.

§ 1.9046 [Amended]

8. Section 1.9046 is amended by removing and reserving paragraphs (d)(1) and (e).

§ 1.9050 [Removed and Reserved]

9. Remove and reserve § 1.9050.

§ 1.9055 [Removed and Reserved]

10. Remove and reserve § 1.9055.

PART 13—COMMERCIAL RADIO OPERATORS

11. The authority citation for part 13 continues to read as follows:

Authority: 47 U.S.C. 154, 303, unless otherwise noted.

§ 13.1 [Removed and Reserved]

12. Remove and reserve § 13.1.

§ 13.5 [Removed and Reserved]

13. Remove and reserve § 13.5.

14. Amend § 13.7 by:

a. Removing and reserving paragraph (a);

b. Revising paragraph (b) introductory text and removing and reserving paragraphs (b)(1) through (3); and

c. Revising paragraphs (c)(1) and (2).

The revisions read as follows:

§ 13.7 Classification of operator licenses and endorsements.

* * * * *

(b) There are nine types of commercial radio operator licenses, certificates and permits (licenses). The license's ITU classification, if different from its name, is given in parentheses.

* * * * *

(c) * * *

(1) Ship Radar Endorsement (Radiotelegraph Operator License, General Radiotelephone Operator License, GMDSS Radio Maintainer's License).

(2) Six Months Service Endorsement (Radiotelegraph Operator License)

* * * * *

15. Amend § 13.8 by

a. Removing and reserving paragraph (a);

b. Revising paragraph (b); and

c. Removing and reserving paragraph (c)

The revision reads as follows:

§ 13.8 Authority conveyed.

* * * * *

(b) A Radiotelegraph Operator License conveys all of the operating authority of the Restricted Radiotelephone Operator Permit and the Marine Radio Operator Permit.

* * * * *

16. Section 13.9 is amended by revising paragraph (f)(4) to read as follows:

§ 13.9 Eligibility and application for new license or endorsement.

* * * * *

(f) * * *

(4) The applicant held a FCC-issued Radiotelegraph Operator License during this entire six month qualifying period; and

* * * * *

§ 13.11 [Amended]

17. Section 13.11 is amended by removing and reserving paragraphs (a)(1) through (3).

18. Section 13.13 is amended by revising paragraphs (a), (b), and (d) to read as follows:

§ 13.13 Application for a renewed or modified license.

(a) Each application to renew a Radiotelegraph Operator License must be made on FCC Form 605. The application must be accompanied by the appropriate fee and submitted in accordance with § 1.913 of this chapter.

(b) If a license expires, application for renewal may be made during a grace period of five years after the expiration date without having to retake the required examinations. The application must be accompanied by the required fee and submitted in accordance with § 1.913 of this chapter. During the grace period, the expired license is not valid. A license renewed during the grace period will be effective as of the date of the renewal. Licensees who fail to renew their licenses within the grace period must apply for a new license and take the required examination(s).

* * * * *

(d) Provided that a person's commercial radio operator license was not revoked, or suspended, and is not the subject of an ongoing suspension proceeding, a person holding a General Radiotelephone Operator License, Marine Radio Operator Permit, Radiotelegraph Operator License, GMDSS Radio Operator's License, GMDSS Radio Maintainer's License, or GMDSS Radio Operator/Maintainer License, who has an application for another commercial radio operator license which has not yet been acted upon pending at the FCC and who holds a PPC(s) indicating that he or she passed the necessary examination(s) within the previous 365 days, is authorized to exercise the rights and privileges of the license for which the application is filed. This temporary conditional operating authority is valid for a period of 90 days from the date the application is received. This temporary conditional operating authority does not relieve the licensee of the obligation to comply with the certification requirements of the Standards of Training, Certification and Watchkeeping (STCW) Convention. The FCC, in its discretion, may cancel this temporary conditional operating authority without a hearing.

* * * * *

19. Revise § 13.15 to read as follows:

§ 13.15 License term.

Commercial radio operator licenses are normally valid for the lifetime of the holder.

§ 13.17 [Removed and Reserved]

20. Remove and reserve § 13.17.

PART 17—CONSTRUCTION, MARKING, AND LIGHTING OF ANTENNA STRUCTURES

21. The authority citation for part 17 continues to read as follows:

Authority: 47 U.S.C. 154, 301, 303, 309 unless otherwise noted.

§ 17.1 [Removed and Reserved]

22. Remove and reserve § 17.1.

Subpart B—Federal Aviation Administration Notification Criteria

§ 17.9 [Removed and Reserved]

23. Remove and reserve § 17.9.

PART 20—COMMERICAL MOBILE SERVICES

24. The authority citation for part 20 continues to read as follows:

Authority: 47 U.S.C. 151, 152(a), 154(i), 155, 157, 160, 201, 214, 222, 251(e), 301, 302, 303, 303(b), 303(r), 307, 307(a), 309, 309(j)(3), 316, 316(a), 332, 610, 615, 615a, 615b, and 615c, unless otherwise noted.

§ 20.1 and 20.2 [Removed and Reserved]

25. Remove and reserve § 20.1 and 20.2.

§ 20.6 [Removed and Reserved]

26. Remove and reserve § 20.6.

§ 20.12 [Amended]

27. Section 20.12 is amended by removing and reserving paragraph (b).

§ 20.22 [Amended]

28. Section 20.22 is amended by removing and reserving paragraph (c).

PART 22—PUBLIC MOBILE SERVICES

29. The authority citation for part 22 continues to read as follows:

Authority: 47 U.S.C. 154, 222, 303, 309, and 332, unless otherwise noted.

Subpart A—Scope and Authority

§ 22.1 [Removed and Reserved]

30. Remove and reserve § 22.1.

§ 22.9 [Removed and Reserved]

31. Remove and reserve § 22.9.

Subpart B—Licensing Requirements and Procedures

§ 22.107 [Removed and Reserved]

32. Remove and reserve § 22.107.

§ 22.165 [Amended]

33. Section 22.165 is amended by removing and reserving paragraph (f).

§ 22.213 [Removed and Reserved]

34. Remove and reserve § 22.213.

§ 22.225 [Removed and Reserved]

35. Remove and reserve § 22.225.

§ 22.227 [Removed and Reserved]

36. Remove and reserve § 22.227.

Subpart C—Operational and Technical Requirements

§ 22.305 [Removed and Reserved]

37. Remove and reserve § 22.305.

§ 22.357 [Removed and Reserved]

38. Remove and reserve § 22.357.

§ 22.365 [Removed and Reserved]

39. Remove and reserve § 22.365.

§ 22.379 [Removed and Reserved]

40. Remove and reserve § 22.379.

Subpart E—Paging and Radiotelephone Service

§ 22.509 [Removed and Reserved]

41. Remove and reserve § 22.509.

§ 22.529 [Removed and Reserved]

42. Remove and reserve § 22.529.

Subpart G—Air-Ground Radiotelephone Service

§ 22.859 [Removed and Reserved]

43. Remove and reserve § 22.859.

Subpart H—Cellular Radiotelephone Service

§ 22.959 [Removed and Reserved]

44. Remove and reserve § 22.959.

PART 24—PERSONAL COMMUNICATIONS SERVICES

45. The authority citation for part 24 continues to read as follows:

Authority: 47 U.S.C. 154, 301, 302, 303, 309, and 332, unless otherwise noted.

Subpart A—General Information

§ 24.2 [Removed and Reserved]

46. Remove and reserve § 24.2.

Subpart B—Applications and Licenses

§ 24.10 [Removed and Reserved]

47. Remove and reserve § 24.10.

Subpart C—Technical Standards

§ 24.50 [Removed and Reserved]

48. Remove and reserve § 24.50.

§ 24.52 [Removed and Reserved]

49. Remove and reserve § 24.52.

Subpart E—Broadband PCS

§ 24.235 [Removed and Reserved]

50. Remove and reserve § 24.235.

Subpart F—Competitive Bidding Procedures for Narrowband PCS

§ 24.321 [Amended]

51. Section 24.321 is amended by removing and reserving paragraph (c).

Subpart G—Interim Application, Licensing and Processing Rules for Narrowband PCS

§ 24.430 [Removed and Reserved]

52. Remove and reserve § 24.430.

§ 24.431 [Amended]

53. Section 24.431 is amended by removing and reserving paragraph (b).

Subpart H—Competitive Bidding Procedures for Broadband PCS

§ 24.711 [Removed and Reserved]

54. Remove and reserve § 24.711.

§ 24.712 [Amended]

55. Section 24.712 is amended by removing and reserving paragraph (c).

§ 24.714 [Amended]

56. Section 24.714 is amended by removing and reserving paragraph (c).

§ 24.716 [Removed and Reserved]

57. Remove and reserve § 24.716.

Subpart I—Interim Application, Licensing, and Processing Rules for Broadband PCS

§ 24.830 [Removed and Reserved]

58. Remove and reserve § 24.830.

§ 24.831 [Amended]

59. Section 24.831 is amended by removing and reserving paragraph (b).

PART 26—SPACE LAUNCH SERVICES

60. The authority citation for part 26 continues to read as follows:

Authority: 47 U.S.C. 151, 152, 154, 301, 303, unless otherwise noted.

Subpart A—General Information

§ 26.1 [Removed and Reserved]

61. Remove and reserve § 26.1.

§ 26.4 [Removed and Reserved]

62. Remove and reserve § 26.4.

Subpart D—Technical Standards

§ 26.304 [Removed and Reserved]

63. Remove and reserve § 26.304.

PART 27—MISCELLANEOUS WIRELESS COMMUNICATIONS SERVICES

64. The authority citation for part 27 continues to read as follows:

Authority: 47 U.S.C. 151, 152, 154, 301, 303, unless otherwise noted.

Subpart A—General Information

§ 27.1 [Removed and Reserved]

65. Remove and reserve § 27.1.

§ 27.3 [Removed and Reserved]

66. Remove and reserve § 27.3.

§ 27.5 [Amended]

67. Section 27.5 is amended by removing and reserving paragraphs (i)(1), (i)(4), and (i)(5).

§ 27.14 [Amended]

68. Section 27.14 is amended by removing and reserving paragraph (l).

Subpart C—Technical Standards

§ 27.52 [Removed and Reserved]

69. Remove and reserve § 27.52.

Subpart C—Technical Standards

§ 27.53 [Amended]

70. Section 27.53 is amended by removing and reserving paragraph (m)(5).

§ 27.54 [Removed and Reserved]

71. Remove and reserve § 27.54.

§ 27.55 [Amended]

72. Section 27.55 is amended by removing and reserving paragraph (a)(4)(i).

§ 27.58 [Removed and Reserved]

73. Remove and reserve § 27.58.

Subpart D—Competitive Bidding Procedures for the 2305-2320 MHz and 2345-2360 MHz Bands

§ 27.210 [Amended]

74. Section 27.210 is amended by removing and reserving paragraph (a).

Subpart E—Application, Licensing, and Processing Rules for WCS

§ 27.308 [Removed and Reserved]

75. Remove and reserve § 27.308.

Subpart G—Guard Band A and B Blocks (757-758/787-788 MHz and 775-776/805-806 MHz Bands)

§ 27.604 [Removed and Reserved]

76. Remove and reserve § 27.604.

§ 27.607 [Removed and Reserved]

77. Remove and reserve § 27.607.

Subpart I—1.4 GHz Band

§ 27.801 [Removed and Reserved]

78. Remove and reserve § 27.801.

Subpart J—1670-1675 MHz Band

§ 27.901 [Removed and Reserved]

79. Remove and reserve § 27.901.

Subpart K—1915-1920 MHz and 1995-2000 MHz

80a. Remove the undesignated center heading “Reimbursement Obligation of Licensees at 1915-1920 MHz and 1995-2000 MHz”.

§ 27.1021 [Removed and Reserved]

80. Remove and reserve § 27.1021.

§ 27.1031 [Removed and Reserved]

81. Remove and reserve § 27.1031.

§ 27.1041 [Removed and Reserved]

82. Remove and reserve § 27.1041.

Subpart L—1695-1710 MHz, 1710-1755 MHz, 1755-1780 MHz, 2110-2155 MHz, 2155-2180 MHz, 2180-2200 MHz Bands

§ 27.1111 [Removed and Reserved]

83. Remove the undesignated center heading “Relocation of Incumbents” and remove and reserve § 27.1111.

§§ 27.1131 and 27.1132 [Removed and Reserved]

84. Remove and reserve §§ 27.1131 and 27.1132.

§§ 27.1160 through 27.1174 [Removed and Reserved]

85. Remove the undesignated center heading “Cost-Sharing Policies Governing Microwave Relocation From the 2110-2150 MHz and 2160-2200 MHz Bands”, and remove and reserve §§ 27.1160 through 27.1174.

§§ 27.1176 through 27.1190 [Removed and Reserved]

86. Remove the undesignated center heading “Cost-Sharing Policies Governing Broadband Radio Service Relocation From the 2150-2160/62 MHz Band” and remove and reserve §§ 27.1176 through 27.1190.

Subpart M—Broadband Radio Service and Educational Broadband Service

§ 27.1200 [Removed and Reserved]

87. Remove and reserve § 27.1200.

§§ 27.1213 through 27.1215 [Removed and Reserved]

88. Remove and reserve §§ 27.1213 through 27.1215.

§ 27.1216 [Amended]

89. Section 27.1216 is amended by removing and reserving paragraph (b).

§§ 27.1250 through 27.1255 [Removed and Reserved]

90. Remove the undesignated center heading “Relocation Procedures for the 2150-2160/62 MHz Band” and remove and reserve §§ 27.1250 through 27.1255.

Subpart P—Regulations Governing Licensing and Use of 900 MHz Broadband Service in the 897.5-900.5 MHz and 936.5-939.5 MHz Bands

§ 27.1502 [Removed and Reserved]

91. Remove and reserve § 27.1502.

Subpart Q—3.45 GHz Service (3450-3550 MHz)

§§ 27.1604 and 27.1605 [Removed and Reserved]

92. Remove and reserve §§ 27.1604 and 27.1605.

PART 30—UPPER MICROWAVE FLEXIBLE USE SERVICES

93. The authority citation for part 30 continues to read as follows:

Authority: 47 U.S.C. 151, 152, 153, 154, 301, 303, 304, 307, 309, 310, 316, 332, 1302, unless otherwise noted.

Subpart A—General

§ 30.4 [Amended]

94. Section 30.4 is amended by removing and reserving paragraph (d)(2).

Subpart B—Applications and Licenses

§ 30.102 [Removed and Reserved]

95. Remove and reserve § 30.102.

Subpart C—Technical Standards

§§ 30.206 and 30.207 [Removed and Reserved]

96. Remove and reserve §§ 30.206 and 30.207.

§ 30.209 [Removed and Reserved]

97. Remove and reserve § 30.209.

PART 54—UNIVERSAL SERVICE

98. The authority citation for part 54 continues to read as follows:

Authority: 47 U.S.C. 151, 154(i), 155, 201, 205, 214, 219, 220, 229, 254, 303(r), 403, 1004, 1302, 1601-1609, and 1752, unless otherwise noted.

Subpart D—Universal Service Support for High Cost Areas

§ 54.317 [Amended]

99. Section 54.317 is amended by removing and reserving paragraphs (c) and (g).

§ 54.321 [Amended]

100. Section 54.321 is amended by removing and reserving paragraph (a).

PART 74—EXPERIMENTAL RADIO, AUXILIARY, SPECIAL BROADCAST AND OTHER PROGRAM DISTRIBUTIONAL SERVICES

101. The authority citation for part 74 continues to read as follows:

Authority: 47 U.S.C. 154, 302a, 303, 307, 309, 310, 325, 336, and 554, unless otherwise noted.

Subpart—General; Rules Applicable to All Services in Part 74

§ 74.19 [Removed and Reserved]

102. Remove and reserve § 74.19.

§ 74.24 [Amended]

103. Section 74.24 is amended by removing and reserving paragraphs (i) and (j).

§ 74.28 [Removed and Reserved]

104. Remove and reserve § 74.28.

§ 74.34 [Amended]

105. Section 74.34 is amended by removing and reserving paragraphs (c), (d), and (e).

Subpart D—Remote Pickup Broadcast Stations

§ 74.432 [Amended]

106. Section 74.432 is amended by removing and reserving paragraphs (j) and (k).

§ 74.433 [Removed and Reserved]

107. Remove and reserve § 74.433.

§ 74.452 [Removed and Reserved]

108. Remove and reserve § 74.452.

§ 74.465 [Removed and Reserved]

109. Remove and reserve § 74.465.

Subpart E—Aural Broadcast Auxiliary Stations

§ 74.532 [Amended]

110. Section 74.532 is amended by removing paragraph (f).

§ 74.537 [Removed and Reserved]

111. Remove and reserve § 74.537.

§ 74.551 [Removed and Reserved]

112. Remove and reserve § 74.551.

§ 74.562 [Removed and Reserved]

113. Remove and reserve § 74.562.

Subpart F—Television Broadcast Auxiliary Stations

114. Section 74.602 is amended by removing and reserving paragraphs (e), (h)(3), (h)(5), and (h)(6), and by revising paragraph (h)(4) to read as follows:

§ 74.602 Frequency assignment.

* * * * *

(h) * * *

(4) TV translator relay stations licensed for operation on UHF TV channels 52-59 based on applications filed before the end of DTV transition may continue to operate under the terms of their current authorizations indefinitely. Applications for TV translator relay stations operating on UHF TV channels 52-69 will not be accepted for filing on or after the end of DTV Transition.

* * * * *

§ 74.603 [Amended]

115. Section 74.603 is amended by removing and reserving paragraph (c).

§ 74.633 [Removed and Reserved]

116. Remove and reserve § 74.633.

§ 74.634 [Amended]

117. Section 74.634 is amended by removing and reserving paragraph (b).

§ 74.635 [Amended]

118. Section 74.635 is amended by removing and reserving paragraph (b).

§ 74.651 [Removed and Reserved]

119. Remove and reserve § 74.651.

§ 74.662 [Removed and Reserved]

120. Remove and reserve § 74.662.

Subpart H—Low Power Auxiliary Stations

§ 74.802 [Amended]

121. Section 74.802 is amended by removing and reserving paragraphs (e) and (f).

122. Section 74.851 is amended by removing paragraph (l) and by revising the section heading to read as follows:

§ 74.851 Certification of equipment; prohibition on manufacture, import, sale, lease, offer for sale or lease, or shipment of devices that operate in the 700 MHz Band or the 600 MHz Band; labeling for 700 MHz or 600 MHz equipment destined for non-U.S. markets.

§ 74.870 [Amended]

123. Section 74.870 is amended by removing paragraph (i).

PART 80—STATIONS IN THE MARITIME SERVICES

124. The authority citation for part 80 continues to read as follows:

Authority: 47 U.S.C. 151-155, 301-609; 3 U.S.T. 3450, 3 U.S.T. 4726, 12 U.S.T. 2377, unless otherwise noted.

Subpart A—General Information

§§ 80.1 through 80.3 [Removed and Reserved]

125. Remove and reserve §§ 80.1 through 80.3.

Subpart B—Applications and Licenses

§ 80.11 [Removed and Reserved]

126. Remove and reserve § 80.11.

§ 80.15 [Amended]

127. Section 80.15 is amended by removing and reserving paragraph (b)(2).

§ 80.31 [Removed and Reserved]

128. Remove and reserve § 80.31.

§ 80.45 [Removed and Reserved]

129. Remove and reserve § 80.45.

Subpart C—Operating Requirements and Procedures

§ 80.71 [Removed and Reserved]

130. Remove and reserve § 80.71.

§ 80.76 [Amended]

131. Section 80.76 is amended by removing and reserving paragraph (c).

§ 80.80 [Amended]

132. Section 80.80 is amended by removing and reserving paragraphs (a)(3) and (b) through (f).

§ 80.83 [Removed and Reserved]

133. Remove and reserve § 80.83.

§ 80.86 [Removed and Reserved]

134. Remove and reserve § 80.86.

§ 80.96 [Removed and Reserved]

135. Remove and reserve § 80.96.

§ 80.108 [Removed and Reserved]

136. Remove and reserve § 80.108.

§ 80.110 [Removed and Reserved]

137. Remove and reserve § 80.110.

§ 80.114 [Amended]

138. Section 80.114 is amended by removing and reserving paragraph (b).

§ 80.121 [Amended]

139. Section 80.121 is amended by removing and reserving paragraph (c).

§ 80.131 [Amended]

140. Section 80.131 is amended by removing and reserving paragraphs (c)(1) and (d)(2).

§ 80.149 [Removed and Reserved]

141. Remove and reserve § 80.149.

Subpart D—Operator Requirements

§ 80.151 [Amended]

142. Section 80.151 is amended by removing and reserving paragraphs (a) and (b)(9) through (b)(11).

§ 80.159 [Amended]

143. Section 80.159 is amended by removing and reserving paragraph (d).

§ 80.175 [Removed and Reserved]

144. Remove and reserve § 80.175.

Subpart E—General Technical Standards

§ 80.201 [Removed and Reserved]

145. Remove and reserve § 80.201.

§ 80.203 [Amended]

146. Section 80.203 is amended by removing and reserving paragraphs (b)(5) and (o).

§ 80.205 [Amended]

147. Section 80.205 is amended by removing and reserving paragraph (b)(2).

§ 80.209 [Amended]

148. Amend § 80.209 by revising the table in paragraph (a) to read as follows:

Frequency bands and categories of stations | Tolerances
(1) Band 100-525 kHz:
(i) Coast stations:
For single sideband emissions | 20 Hz.
For transmitters with narrow-band direct printing and data emissions | 10 Hz.¹
For transmitters with digital selective calling emissions | 10 Hz.
For all other emissions | 100.
(ii) Ship stations:
For transmitters with narrow-band direct printing and data emissions | 20 Hz.
For transmitters with digital selective calling emissions | 10 Hz.¹
For all other transmitters | 10 Hz.
(iii) Ship stations for emergency only:
For all emissions | 20 Hz.
(iv) Survival craft stations:
For all emissions | 20 Hz.
(v) Radiodetermination stations:
For all emissions | 100.
(2) Band 1600-4000 kHz:
(i) Coast stations and Alaska fixed stations:
For single sideband and facsimile | 20 Hz.
For narrow-band direct printing and data emissions | 10 Hz.¹
For transmitters with digital selective calling emissions | 10 Hz.¹
For all other emissions | 50 Hz.
(ii) Ship stations:
For transmitters with narrow-band direct printing and data emissions | 10 Hz.¹
For transmitters with digital selective calling emissions | 10 Hz.
For all other transmitters | 20 Hz.
(iii) Survival craft stations | 20 Hz.
(iv) Radiodetermination stations:
With power 200W or less | 20.
With power above 200W | 10.
(3) Band 4000-27500 kHz:
(i) Coast stations and Alaska fixed stations:
For single sideband and facsimile emissions | 20 Hz.
For narrow-band direct printing and data emissions | 10 Hz.¹
For digital selective calling emissions | 10 Hz.
For Morse telegraphy emissions | 10.
For all other emissions | 15 Hz.
(ii) Ship stations:
For transmitters with narrow-band direct printing and data emissions | 10 Hz.¹
For transmitters with digital selective calling emissions | 10 Hz.
For all other transmitters | 20 Hz.
(iii) Survival craft stations | 50 Hz.
(4) Band 72-76 MHz:
(i) Fixed stations:
Operating in the 72.0-73.0 and 75.4-76.0 MHz bands | 5.
Operating in the 73.74.6 MHz band | 50.
(5) Band 156-162 MHz:
(i) Coast stations:
For carriers licensed to operate with a carrier power:
Below 3 watts | 10.
3 to 100 watts | 5.³
(ii) Ship stations | 10.²
(iii) Survival craft stations operating on 121.500 MHz | 50.
(iv) EPIRBs:
Operating on 121.500 and 243.000 MHz | 50.
Operating on 156.750 and 156.800 MHz | 10.
(6) Band 216-220 MHz:
(i) Coast stations:
For all emissions | 5.
(ii) Ship stations:
For all emissions | 5.
(7) Band 400-466 MHz:
(i) EPIRBs operating on 406-406.1 MHz | 5.
(ii) On-board stations | 5.
(iii) Radiolocation and telecommand stations | 5.
(8) Band 1626.5-1646.5 MHz:
(i) Ship earth stations | 5.
¹ The frequency tolerance for narrow-band direct printing and data transmitters installed before January 2, 1992, is 15 Hz for coast stations and 20 Hz for ship stations. The frequency tolerance for narrow-band direct printing and data transmitters approved or installed after January 1, 1992, is 10 Hz.
² For transmitters in the radiolocation and associated telecommand service operating on 154.584 MHz, 159.480 MHz, 160.725 MHz and 160.785 MHz the frequency tolerance is 15 parts in 10.
³ For transmitters operated at private coast stations with antenna heights less than 6 meters (20 feet) above ground and output power of 25 watts or less the frequency tolerance is 10 parts in 10.

Subpart F—Equipment Authorization for Compulsory Ships

§ 80.251 [Amended]

149. Section 80.251 is amended by removing and reserving paragraphs (a) and (d).

Subpart G—Safety Watch Requirements and Procedures

§ 80.314 [Amended]

150. Section 80.314 is amended by removing and reserving paragraph (d).

§ 80.332 [Amended]

151. Section 80.332 is amended by removing and reserving paragraph (b).

§ 80.333 [Removed and Reserved]

152. Remove and reserve § 80.333.

Subpart H—Frequencies

§ 80.351 [Removed and Reserved]

153. Remove and reserve § 80.351.

§ 80.365 [Removed and Reserved]

154. Remove and reserve § 80.365.

§ 80.375 [Amended]

155. Section 80.375 is amended by removing and reserving paragraph (e).

Subpart H—Frequencies

§ 80.383 [Amended]

156. Section 80.383 is amended by removing footnotes 1 and 2 to paragraph (a).

§ 80.385 [Amended]

157. Section 80.385 is amended by removing and reserving paragraph (b)(4).

Subpart I—Station Documents

158. Section 80.407 is amended by revising the introductory paragraph and removing and reserving paragraph (a) to read as follows:

§ 80.407 Operator authorization.

This section contains information and rules pertinent to the posting of radio operator authorizations. Rules applicable to radio operator requirements are contained in subpart D of this part and other rules pertinent to commercial radio operators are contained in part 13 of this chapter.

* * * * *

§ 80.409 [Amended]

159. Section 80.409 is amended by removing and reserving paragraphs (f)(1)(i)(F) and (f)(2)(iv).

§ 80.411 [Amended]

160. Section 80.411 is amended by removing and reserving paragraph (a).

§ 80.415 [Removed and Reserved]

161. Remove and reserve § 80.415.

§ 80.417 [Removed and Reserved]

162. Remove and reserve § 80.417.

Subpart J—Public Coast Stations

§ 80.451 [Removed and Reserved]

163. Remove and reserve § 80.451.

§ § 80.455 through 80.461 [Removed and Reserved]

164a. Remove the undesignated center heading “Use of Telegraphy” and remove and reserve §§ 80.455 through 80.461.

§ § 80.465 [Removed and Reserved]

164. Remove and reserve § 80.465.

Subpart K—Private Coast Stations and Marine Utility Stations

§ 80.509 [Removed and Reserved]

165. Remove and reserve § 80.509.

Subpart L—Operational Fixed Stations

§ 80.551 [Removed and Reserved]

166. Remove and reserve § 80.551.

§ 80.559 [Amended]

167. Section 80.559 is amended by removing footnote 1 to paragraph (c).

Subpart M—Stations in the Radiodetermination Service

§ 80.603 [Removed and Reserved]

168. Remove and reserve § 80.603.

Subpart O—Alaska Fixed Stations

§ 80.709 [Removed and Reserved]

169. Remove and reserve § 80.709.

Subpart P—Standards for Computing Public Coast Station VHF Coverage

§ 80.751 [Removed and Reserved]

170. Remove and reserve § 80.751.

Subpart T—Radiotelephone Installation Required for Vessels on the Great Lakes

§ 80.953 [Amended]

171. Section 80.953 is amended by removing and reserving paragraph (c).

Subpart V—Emergency Position Indicating Radiobeacons (EPIRB's)

§ 80.1051 [Removed and Reserved]

172. Remove and reserve § 80.1051.

Subpart W—Global Maritime Distress and Safety System (GMDSS)

§ 80.1114 [Removed and Reserved]

173. Remove and reserve § 80.1114.

Subpart X—Voluntary Radio Installations

§ 80.1155 [Amended]

174. Section 80.1155 is amended by removing and reserving paragraph (d).

Subpart Y—Competitive Bidding Procedures

§ 80.1252 [Removed and Reserved]

175. Remove and reserve § 80.1252.

PART 87—AVIATION SERVICES

176. The authority citation for part 87 continues to read as follows:

Authority: 47 U.S.C. 154, 303 and 307(e), unless otherwise noted.

Subpart A—General Information

177. Section 87.1 is amended by removing and reserving paragraph (a) and revising the section heading to read as follows:

§ 87.1 Purpose.

* * * * *

§ 87.3 [Removed and Reserved]

178. Remove and reserve § 87.3.

Subpart B—Applications and Licenses

§ 87.17 [Removed and Reserved]

179. Remove and reserve § 87.17.

§ 87.25 [Amended]

180. Section 87.25 is amended by removing and reserving paragraphs (d) and (e).

§ 87.29 [Removed and Reserved]

181. Remove and reserve § 87.29.

§ 87.35 [Removed and Reserved]

182. Remove and reserve § 87.35.

Subpart C—Operating Requirements and Procedures

§ 87.87 [Amended]

183. Section 87.87 is amended by removing and reserving paragraphs (a) and (b)(1) through (3).

Subpart I—Aeronautical Enroute Stations, Aeronautical Fixed Stations, and Aircraft Data Link Land Test Stations

§ 87.263 [Amended]

184. Section 87.263 is amended by removing and reserving paragraph (a)(5).

Subpart P—Operational Fixed Stations

§ 87.451 [Amended]

185. Section 87.451 is amended by removing footnote 1.

PART 88—UNCREWED AIRCRAFT SYSTEM SERVICES

186. The authority citation for part 88 continues to read as follows:

Authority: 47 U.S.C. 154(i), 303 and 307, unless otherwise noted.

Subpart D—Technical Requirements

§ 88.111 [Removed and Reserved]

187. Remove and reserve § 88.111.

§ 88.115 [Removed and Reserved]

188. Remove and reserve § 88.115.

PART 90—PRIVATE LAND MOBILE RADIO SERVICES

189. The authority citation for part 90 continues to read as follows:

Authority: 47 U.S.C. 154(i), 161, 303(g), 303(r), 332(c)(7), 1401-1473, unless otherwise noted.

Subpart A—General Information

§ 90.1 [Removed and Reserved]

190. Remove and reserve § 90.1.

Subpart C—Industrial/Business Radio Pool

§ 90.31 [Removed and Reserved]

191. Remove and reserve § 90.31.

Subpart C—Industrial/Business Radio Pool

§ 90.35 [Amended]

192. Section 90.35 is amended by removing and reserving paragraph (d)(2).

Subpart F—Radiolocation Services

§ 90.101 [Removed and Reserved]

193. Remove and reserve § 90.101.

Subpart G—Applications and Authorizations

§ 90.111 [Removed and Reserved]

194. Remove and reserve § 90.111.

§ 90.121 [Removed and Reserved]

195. Remove and reserve § 90.121.

§ 90.137 [Amended]

196. Section 90.137 is amended by removing and reserving paragraph (a)(3).

§ 90.149 [Amended]

197. Section 90.149 is amended by removing and reserving paragraph (b).

Subpart H—Policies Governing the Assignment of Frequencies

§ 90.171 [Removed and Reserved]

198. Remove and reserve § 90.171.

§ 90.173 [Amended]

199. Section 90.173 is amended by removing and reserving paragraph (k).

§ 90.175 [Amended]

200. Section 90.175 is amended by removing and reserving paragraph (j)(7).

§ 90.185 [Amended]

201. Section 90.185 is amended by removing and reserving paragraph (c).

Subpart I—General Technical Standards

§ 90.201 [Removed and Reserved]

202. Remove and reserve § 90.201.

§ 90.203 [Amended]

203. Section 90.203 is amended by removing and reserving paragraphs (a)(2) and (o).

§ 90.205 [Amended]

204. Section 90.205 is amended by removing and reserving paragraph (s).

§ 90.207 [Amended]

205. Section 90.207 is amended by removing and reserving paragraph (a).

§ 90.213 [Amended]

206. Section 90.213 is amended by removing and reserving footnote 10 to paragraph (a).

Subpart J—Non-Voice and Other Specialized Operations

§ 90.231 [Removed and Reserved]

207. Remove and reserve § 90.231.

208. Section 90.235 is amended by removing and reserving paragraph (e) and by revising paragraph (d) to read as follows:

§ 90.235 Secondary fixed signaling operations.

* * * * *

(d) The maximum duration of any non-voice signaling transmission shall not exceed 2 seconds and shall not be repeated more than 3 times. Signaling transmissions may be staggered at any interval or may be continuous. In the Public Safety Pool, the maximum duration of any voice signaling transmission shall not exceed 6 seconds and shall not be repeated more than 3 times.

* * * * *

§ 90.237 [Amended]

209. Section 90.237 is amended by removing and reserving paragraph (a).

Subpart K—Standards for Special Frequencies or Frequency Bands

§ 90.251 [Removed and Reserved]

210. Remove and reserve § 90.251.

§ 90.275 [Removed and Reserved]

211. Remove and reserve § 90.275.

Subpart L—Authorization in the Band 470-512 MHz (UHF-TV Sharing)

§ 90.301 [Removed and Reserved]

212. Remove and reserve § 90.301.

Subpart M—Intelligent Transportation Systems Radio Service

§ 90.351 [Amended]

213. Section 90.351 is amended by removing and reserving paragraph (a).

§ 90.353 [Amended]

214. Section 90.353 is amended by removing and reserving paragraph (e).

§ 90.363 [Removed and Reserved]

215. Remove and reserve § 90.363.

§ 90.365 [Removed and Reserved]

216. Remove and reserve § 90.365.

Subpart N—Operating Requirements

§ 90.401 [Removed and Reserved]

217. Remove and reserve § 90.401.

218. Section 90.423 is amended by revising the introductory text of paragraph (a), removing and reserving paragraph (c), and by revising paragraph (d) to read as follows:

§ 90.423 Operation on board aircraft.

(a) Except as provided in paragraphs (b) and (d) of this section, and except as may be provided in other sections of this part with respect to operation on specific frequencies, mobile stations first authorized after September 14, 1973, under this part may be operated aboard aircraft for air-to-mobile, air-to-base, air-to-air and air-to-ship communications subject to the following:

* * * * *

(d) Operation of radiolocation mobile stations may be authorized without regard to limitations and conditions set forth in paragraphs (a) and (b) of this section.

§ 90.437 [Amended]

219. Section 90.437 is amended by removing and reserving paragraph (a).

§ 90.441 [Removed and Reserved]

220. Remove and reserve § 90.441.

§ 90.445 [Removed and Reserved]

221. Remove and reserve § 90.445.

Subpart O—Transmitter Control

§ 90.460 [Removed and Reserved]

222. Remove and reserve § 90.460.

§ 90.461 [Amended]

223. Section 90.461 is amended by removing and reserving paragraphs (b) and (c).

§ § 90.471 through 90.475 [Removed and Reserved]

224. Remove and reserve §§ 90.471 through 90.475.

§ 90.492 [Removed and Reserved]

225. Remove and reserve § 90.492.

Subpart S—Regulations Governing Licensing and Use of Frequencies in the 806-824, 851-869, 896-901, and 935-940 MHz Bands

§ 90.605 [Removed and Reserved]

226. Remove and reserve § 90.605.

§ 90.607 [Removed and Reserved]

227. Remove and reserve § 90.607.

§ 90.615 [Amended]

228. Section 90.615 is amended by removing and reserving paragraph (d).

§ 90.617 [Amended]

229. Section 90.617 is amended by removing and reserving paragraphs (l) and (m).

§ 90.621 [Amended]

230. Section 90.621 is amended by removing and reserving paragraphs (a)(1)(iii) and (b)(1).

§ 90.623 [Amended]

231. Section 90.623 is amended by removing and reserving paragraphs (b), (c), and (d).

§ 90.627 [Amended]

232. Section 90.627 is amended by removing and reserving paragraph (b).

§ 90.631 [Amended]

233. Section 90.631 is amended by removing and reserving paragraph (g).

§ 90.633 [Amended]

234. Section 90.633 is amended by removing and reserving paragraphs (c), (d), and (f).

§ 90.651 [Removed and Reserved]

235. Remove and reserve § 90.651.

Subpart T—Regulations Governing Licensing and Use of Frequencies in the 220-222 MHz Band

§ 90.735 [Amended]

236. Section 90.735 is amended by removing and reserving paragraph (a).

Subpart T—Regulations Governing Licensing and Use of Frequencies in the 220-222 MHz Band

§ 90.739 [Removed and Reserved]

237. Remove and reserve § 90.739.

§ 90.743 [Removed and Reserved]

238. Remove and reserve § 90.743.

Subpart U—[Removed and Reserved]

239. Remove and reserve subpart U, consisting of §§ 90.801 through 90.815.

Subpart V—Competitive Bidding Procedures for 800 MHz Specialized Mobile Radio Service

§ § 90.903 through 90.913 [Removed and Reserved]

240. Remove and reserve §§ 90.903 through 90.913.

Subpart W—Competitive Bidding Procedures for the 220 MHz Service

§ 90.1017 [Removed and Reserved]

241. Remove and reserve § 90.1017.

§ 90.1019 [Amended]

242. Section 90.1019 is amended by removing and reserving paragraphs (a)(1) through (3), (b), and (c).

§ § 90.1021 through 90.1025 [Removed and Reserved]

243. Remove and reserve §§ 90.1021 through 90.1025.

§ 90.1103 [Removed and Reserved]

244. Remove and reserve § 90.1103.

Subpart Z—[Removed and Reserved]

245. Remove and reserve subpart Z, consisting of §§ 90.1301 through 90.1338.

PART 95—PERSONAL RADIO SERVICES

246. The authority citation for part 95 continues to read as follows:

Authority: 47 U.S.C. 154, 303, 307, unless otherwise noted.

General Rules for the Personal Radio Services

§ 95.301 [Removed and Reserved]

247. Remove and reserve § 95.301.

§ 95.313 [Removed and Reserved]

248. Remove and reserve § 95.313.

§ 95.331 [Removed and Reserved]

249. Remove and reserve § 95.331.

§ 95.351 [Removed and Reserved]

250. Remove and reserve § 95.351.

§ 95.353 [Removed and Reserved]

251. Remove and reserve § 95.353.

§ 95.363 [Removed and Reserved]

252. Remove and reserve § 95.363.

Subpart B—Family Radio Service (FRS)

§ 95.501 [Removed and Reserved]

253. Remove and reserve § 95.501.

§ 95.561 [Amended]

254. Section 95.561 is amended by removing and reserving paragraphs (a) and (b).

Subpart C—Radio Control Radio Service

§ 95.701 [Removed and Reserved]

255. Remove and reserve § 95.701.

§ 95.761 [Amended]

256. Section 95.761 is amended by removing and reserving paragraph (b).

Subpart D—CB Radio Service

§ 95.901 [Removed and Reserved]

257. Remove and reserve § 95.901.

§ 95.939 [Amended]

258. Section 95.939 is amended by removing and reserving paragraph (b).

§ 95.961 [Removed and Reserved]

259. Remove and reserve § 95.961.

Subpart D—CB Radio Service

§ 95.977 [Removed and Reserved]

260. Remove and reserve § 95.977.

§ 95.1701 [Removed and Reserved]

261. Remove and reserve § 95.1701.

§ 95.1741 [Removed and Reserved]

262. Remove and reserve § 95.1741.

Subpart F—218-219 MHz Service

§ 95.1901 [Removed and Reserved]

263. Remove and reserve § 95.1901.

§ 95.1919 [Removed and Reserved]

264. Remove and reserve § 95.1919.

§ 95.1931 [Removed and Reserved]

265. Remove and reserve § 95.1931.

§ 95.1933 [Amended]

266. Section 95.1933 is amended by removing and reserving paragraph (b).

§ 95.1935 [Removed and Reserved]

267. Remove and reserve § 95.1935.

§ 95.1951 [Removed and Reserved]

268. Remove and reserve § 95.1951.

Subpart G—Low Power Radio Service

§ 95.2101 [Removed and Reserved]

269. Remove and reserve § 95.2101.

§ 95.2161 [Removed and Reserved]

270. Remove and reserve § 95.2161.

Subpart H—Wireless Medical Telemetry Service

§ 95.2301 [Removed and Reserved]

271. Remove and reserve § 95.2301.

§ 95.2361 [Removed and Reserved]

272. Remove and reserve § 95.2361.

Subpart I—Medical Device Radio Communications Service

§ 95.2501 [Removed and Reserved]

273. Remove and reserve § 95.2501.

§ 95.2561 [Amended]

274. Section 95.2561 is amended by removing and reserving paragraph (b).

§ 95.2587 [Amended]

275. Section 95.2587 is amended by removing and reserving paragraph (b).

Subpart J—Multi-Use Radio Service

§ 95.2701 [Removed and Reserved]

276. Remove and reserve § 95.2701.

§ 95.2761 [Amended]

277. Section 95.2761 is amended by removing and reserving paragraphs (a) and (b).

Subpart K—Personal Locator Beacons and Maritime Survivor Locating Devices

§ 95.2901 [Removed and Reserved]

278. Remove and reserve § 95.2901.

Subpart K—Personal Locator Beacons and Maritime Survivor Locating Devices

§ 95.2961 [Removed and Reserved]

279. Remove and reserve § 95.2961.

Subpart L—Intelligent Transportation Systems (ITS) On-Board Units (OBUs) in the 5895-5925 MHz Band

§ 95.3161 [Removed and Reserved]

280. Remove and reserve § 95.3161.

§ 95.3202 [Removed and Reserved]

281. Remove and reserve § 95.3202.

Subpart M—The 76-81 GHz Band Radar Service

§ 95.3301 [Removed and Reserved]

282. Remove and reserve § 95.3301.

§ 95.3361 [Removed and Reserved]

283. Remove and reserve § 95.3361.

Appendix A to Part 95 [Removed]

284. Remove Appendix A to Part 95.

PART 96—CITIZENS BROADBAND RADIO SERVICE

285. The authority citation for part 96 continues to read as follows:

Authority: 47 U.S.C. 154(i), 303, 307, unless otherwise noted.

Subpart A—General Rules

§ 96.1 [Removed and Reserved]

286. Remove and reserve § 96.1.

PART 97—AMATEUR RADIO SERVICE

287. The authority citation for part 97 continues to read as follows:

Authority: 47 U.S.C. 151-155, 301-609, unless otherwise noted.

Subpart A—General Provisions

§ 97.27 [Removed and Reserved]

288. Remove and reserve § 97.27.

§ 97.29 [Removed and Reserved]

289. Remove and reserve § 97.29.

Subpart D—Technical Standards

§ 97.315 [Amended]

290. Section 97.315 is amended by removing and reserving paragraph (b)(2).

Subpart F—Qualifying Examination Systems

§ 97.521 [Amended]

291. Section 97.521 is amended by removing and reserving paragraph (b).

Appendix 2 to Part 97 [Removed]

292. Remove Appendix 2 to Part 97.

PART 101—FIXED MICROWAVE SERVICES

293. The authority citation for part 101 continues to read as follows:

Authority: 47 U.S.C. 154, 303, unless otherwise noted.

Subpart A—General

§ 101.1 [Removed and Reserved]

294. Remove and reserve § 101.1.

Subpart B—Applications and Licenses

§ 101.23 [Removed and Reserved]

295. Remove and reserve § 101.23.

Subpart B—Applications and Licenses

§ 101.45 [Removed and Reserved]

296. Remove and reserve § 101.45.

§ 101.51 [Removed and Reserved]

297. Remove and reserve § 101.51.

§ 101.63 [Amended]

298. Section 101.63 is amended by removing and reserving paragraphs (e) and (f).

§ 101.64 [Removed and Reserved]

299. Remove and reserve § 101.64.

§ § 101.69 through 101.82 [Removed and Reserved]

300. Remove and reserve §§ 101.69 through 101.82 and remove the undesignated center heading reading: “Policies Governing Microwave Relocation From the 1850-1990 and 2110-2200 MHz Bands.”

Subpart C—Technical Standards

§ 101.119 [Removed and Reserved]

301. Remove and reserve § 101.119.

Subpart D—Operational Requirements

§ 101.211 [Removed and Reserved]

302. Remove and reserve § 101.211.

Subpart E—Miscellaneous Common Carrier Provisions

§ 101.303 [Removed and Reserved]

303. Remove and reserve § 101.303.

§ § 101.307 through 101.311 [Removed and Reserved]

304. Remove and reserve §§ 101.307 through 101.311.

Subpart G—[Removed and Reserved]

305. Remove and reserve subpart G, consisting of §§ 101.501 through 101.538.

Subpart I—Common Carrier Fixed Point-to-Point Microwave Service

§ 101.705 [Removed and Reserved]

306. Remove and reserve § 101.705.

Subpart J—Local Television Transmission Service

§ 101.819 [Removed and Reserved]

307. Remove and reserve § 101.819.

Subpart M—Competitive Bidding Procedures for LMDS

§ 101.1109 [Removed and Reserved]

308. Remove and reserve § 101.1109.

§ 101.1111 [Removed and Reserved]

309. Remove and reserve § 101.1111.

Subpart O—Multiple Address Systems

§ 101.1301 [Removed and Reserved]

310. Remove and reserve § 101.1301.

§ 101.1309 [Removed and Reserved]

311. Remove and reserve § 101.1309.

§ 101.1311 [Removed and Reserved]

312. Remove and reserve § 101.1311.

§ 101.1321 [Removed and Reserved]

313. Remove and reserve § 101.1321.

§ 101.1323 [Removed and Reserved]

314. Remove and reserve § 101.1323.

Subpart P—Multichannel Video Distribution and Data Service Rules for the 12.2-12.7 GHz Band

§ 101.1411 [Amended]

315. Section 101.1411 is amended by removing paragraphs (b) and (c).

§ 101.1413 [Amended]

316. Section 101.1413 is amended by removing paragraph (c).

§ 101.1417 [Removed and Reserved]

317. Remove and reserve § 101.1417.

§ 101.1425 [Removed and Reserved]

318. Remove and reserve § 101.1425.

Subpart Q—Service and Technical Rules for the 70/80/90 GHz Bands

§ 101.1525 [Removed and Reserved]

319. Remove and reserve § 101.1525.

[FR Doc. 2025-22633 Filed 12-11-25; 8:45 am]

BILLING CODE 6712-01-P